ENVIRONMENTAL PROTECTION AGENCY

[EPA-HQ-OPP-2014-0011; FRL-9912-17]

Notice of Receipt of Pesticide Products; Registration Application To Register New Uses

AGENCY: Environmental Protection Agency (EPA).

ACTION: Notice.

SUMMARY: This notice announces receipt of applications to register new uses for pesticide products containing currently registered active ingredients pursuant to the provisions of section 3(c) of the Federal Insecticide, Fungicide, and Rodenticide Act (FIFRA), as amended. This notice provides the public with an opportunity to comment on the applications.

DATES: Comments must be received on or before August 20, 2014.

ADDRESSES: Submit your comments, identified by docket identification (ID) number and the EPA Registration Number or File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090; email address: BPPDFRNotices@epa.gov., Lois Rossi, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA has received applications to register new uses for pesticide products containing currently registered active ingredients. Pursuant to the provisions of FIFRA section 3(c)(4), EPA is hereby providing notice of receipt and opportunity to comment on these applications. Notice of receipt of these applications does not imply a decision by the Agency on these applications. For actions being evaluated under the Agency's public participation process for registration actions, there will be an additional opportunity for an additional public comment period on the proposed decision. Please see the Agency's public participation Web site for additional information on this process (http://iaspub.epa.gov/apex/pesticides/f?p=CHEMICALSEARCH:30:0). EPA received the following application to register new uses for pesticide products containing currently registered active ingredients:

1. EPA Registration Number: 11678-1 and 66222-58, and 66222-257. Docket ID Number: EPA-HQ-OPP-2014-0315. Applicant: Makhteshim Agan of North America, Inc (MANA), 3120 Highwoods Blvd., Suite 100, Raleigh, NC and Makhteshim Chemical Works (MCE) c/o Makhteshim Agan of North America, Inc (MANA), 3120 Highwoods Blvd., Suite 100, Raleigh, NC. Active ingredient: Captan. Product Type: Fungicide. Proposed Uses: Ginseng. (RD)

2. EPA Registration Number/EPA File Symbol: 100-RLNA. Docket ID Number: EPA-HQ-OPP-2013-0701. Applicant: Syngenta Crop Protection, LLC, P.O. Box 18300, Greensboro, NC 27419. Active ingredient: Difenoconazole, including its metabolites and degradates, and Azoxystrobin, and the Z-isomer of azoxystrobin. Product Type: Fungicide. Proposed Uses: to control diseases on ornamental plants and vegetable transplants grown in indoor production facilities. (RD)

3. EPA Registration Number: 73314-6. Docket ID Number: EPA-HQ-OPP-2014-0330. Applicant: Technology Sciences Group, Inc., 1150 18th St. NW., Suite 1000, Washington, DC 20036 (on behalf of Novozymes BioAg, Inc., 13100 W. Lisbon Rd., Suite 600, Brookfield, WI 53005). Active Ingredient: Isaria fumosoroseus strain FE 9901. Product Type: Insecticide. Proposed Uses: Outdoor, food, and residential uses. (BPPD)

4. EPA Registration Number: 73314-7. Docket ID Number: EPA-HQ-OPP-2014-0330. Applicant: Technology Sciences Group, Inc., 1150 18th St. NW., Suite 1000, Washington, DC 20036 (on behalf of Novozymes BioAg, Inc., 13100 W. Lisbon Rd., Suite 600, Brookfield, WI 53005). Active Ingredient: Isaria fumosoroseus strain FE 9901. Product Type: Insecticide. Proposed Uses: For manufacturing into end-use pesticide products to be used outdoors, in or on food, and in residential areas. (BPPD)

5. EPA Registration Numbers: 100-1131, 100-1140, and 100-1150 Docket ID Number: EPA-HQ-OPP-2014-0303. Applicant: Syngenta Crop Protection, LLC, P.O. Box 18300, Greensboro, NC 27419. Active ingredient: Mesotrione. Product Type: Herbicide. Proposed Uses: Citrus Fruit (Orange), Pome Fruit (Apple), Stone Fruit (Nectarine, Peach, Plum) and Tree Nuts (Almond, Common Walnut, Pistachio). (RD)

6. EPA Registration Number: 59639-147. Docket ID Number: EPA-HQ-OPP-2014-0230. Applicant: Valent U.S.A. Corporation, 1600 Riviera Ave., Suite 200, Walnut Creek, CA 94596. Active ingredient: Metconazole measured as the sum of its cis- and trans-isomers. Product type: Fungicide. Proposed Uses: Dried shelled pea and bean (except soybean) subgroup 6C, Sunflower subgroup 20B, Rapeseed subgroup 20A, Stone fruit group 12-12; Tree nut group 14-12. (RD)

7. EPA Registration Number: 72078-1. Docket ID Number: EPA-HQ-OPP-2014-0230. Applicant: Kureha Corporation, 1600 Riviera Ave., Suite 200, Walnut Creek, CA 94596. Active ingredient: Metconazole measured as the sum of its cis- and trans-isomers. Product type: Fungicide. Proposed Uses: Dried shelled pea and bean (except soybean) subgroup 6C, Sunflower subgroup 20B, Rapeseed subgroup 20A, Stone fruit group 12-12; Tree nut group 14-12. (RD)

8. EPA Registration Number(s): 62719-442 and 62719-437. Docket ID number: EPA-HQ-OPP-2013-0476. Applicant: Dow AgroSciences LLC, 9330 Zionsville Rd, Indianapolis, IN, 46268-1054. Active ingredient: Methoxyfenozide. Product type: Insecticide. Proposed Uses: Pineapple. (RD)

9. EPA Registration Numbers: 241-245 and 241-418. Docket ID Number: EPA-HQ-OPP-2014-0397. Applicant: BASF Corporation, 26 Davis Drive, Research Triangle Park, NC 27709. Active ingredient: Pendimethalin calculated as the stoichiometric equivalent of pendimethalin. Product Type: Herbicide Proposed Uses: Milk, fat (cattle, goat, horse and sheep), liver (cattle, goat, horse, and sheep), meat (cattle, goat, horse, and sheep), and meat byproducts except liver (cattle, goat, horse, and sheep), forage and hay. (RD)

10. EPA Registration Number: 7969-188, 7969-190. Docket ID Number: EPA-HQ-OPP-2014-0346. Applicant: BASF Corporation, 26 Davis Drive, Research Triangle Park, NC 27709. Active ingredient: Prohexadione Calcium. Product Type: Fungicide. Proposed Uses: Strawberry and watercress. (RD)

11. EPA Registration Numbers: 7969-275 and 7969-278. Docket ID Number: EPA-HQ-OPP-2014-0339. Applicant: BASF Corporation, 26 Davis Drive, P.O. Box 13528, Research Triangle Park, NC 27709-3528. Active ingredient: Saflufenacil, calculated as the stoichiometric equivalent of saflufenacil. Product Type: Herbicide. Proposed Uses: Alfalfa grown for forage and hay. (RD)

12. EPA Registration Numbers: 7969-56 and 7969-58. Docket ID Number: EPA-HQ-OPP-2014-0161. Applicant: BASF Corporation. P.O. Box 13528, Research Triangle Park, NC, 27709-3528. Active ingredient: Sethoxydim, and its metabolites containing the 2-cyclohexen-1-one moiety (calculated as the herbicide). Product Type: Herbicide. Proposed Uses: Conversion of existing uses to the following crop groups to include additional crops as listed under 40 CFR 180.41: Bulb Vegetable Group 3-07; Bushberry Subgroup 13-07B; Caneberry Subgroup 13-07A; Citrus Fruit Group 10-10; Cottonseed Subgroup 20C; Fruiting Vegetable Group 8-10 (excluding tomato); Low Growing Berry Subgroup 13-07H (excluding lowbush blueberry, highbush cranberry, lingonberry, and strawberry); Pome Fruit Group 11-10; Rapeseed Subgroup 20A (excluding flax seed); Small Fruit Vine Climbing Subgroup 13-07F (excluding fuzzy kiwifruit); and Sunflower Subgroup 20B (excluding safflower). (RD)

13. EPA Registration Numbers: 100-815 and 100-816. Docket ID Number: EPA-HQ-OPP-2014-0284. Applicant: Syngenta Crop Protection LLC, P.O. Box 18300, Greensboro, NC 27419. Active ingredient: S-metolachlor. Product Type: Herbicide. Proposed Uses: Lettuce (head and leaf); Low Growing Berry Subgroup 13-07G (excluding cranberry) with includes: bearberry, bilberry, blueberry (lowbush), cloudberry, lingonberry, muntries, partridgeberry, strawberry (annual and perennial), cultivars, varieties, and/or hybrids of these; Cucurbit Vegetable Group 9 which includes: chayote (fruit), Chinese wax gourd, citron melon, cucumber, gherkin, gourd (edible), momordica spp, muskmelon, pumpkin, summer squash, winter squash (including butternut squash, calabaza, hubbard squash, acorn squash, and spaghetti squash), and watermelon; Sunflower Subgroup 20B which includes: calendula, castor oil plant, Chinese tallowtree, euphorbia, evening primrose, jojoba, niger seed, rose hip, safflower, stokes aster, sunflower, tallowwood, tea oil plant, vernonia, cultivars, varieties, and/or hybrids of these.; and Fruiting Vegetable Group 8-10 which includes: African eggplant, bush tomato, bell pepper, cocona, currant tomato, eggplant, garden huckleberry, goji berry, groundcherry, martynia, naranjilla, pea eggplant, pepino, non-bell pepper, roselle, scarlet eggplant, sunberry, tomatillo, tomato, tree tomato, cultivars, varieties, and/or hybrids of these. (RD)

14. EPA Registration Numbers: 62719-37, 62719-53, 62719-87, 62719-552, and 62719-637. Docket ID Number: EPA-HQ-OPP-2014-0314. Applicant: Dow AgroSciences LLC, 9330 Zionsville Road, Indianapolis, IN 46268-1054. Active ingredients: Triclopyr triethylamine salt and Triclopyr butoxyethyl ester. Product Type: Herbicide. Proposed Uses: Dairies and land grazed by lactating dairy animals. (RD)

15. EPA Registration Numbers: 100-727, 100-949, and 100-1241. Docket ID Number: EPA-HQ-OPP-2014-0340. Applicant: Syngenta Crop Protection, LLC, P.O. Box 18300, Greensboro, NC 27419. Active ingredient: Trinexapac-ethyl. Product Type: Plant growth regulator. Proposed Uses: Rice and Rye. (RD)

16. EPA Registration Numbers: 100-1374 and 100-1381. Docket ID Number: EPA-HQ-OPP-2014-0354. Applicant: Syngenta Crop Protection, LLC, 410 Swing Road, P.O. Box 18300, Greensboro, NC 27419. Active ingredient: Sedaxane. Product Type: Fungicide. Proposed Uses: For seed treatment for cotton, undelinted seed; cotton, gin byproducts; and beet, sugar. (RD)

List of Subjects

Environmental protection, Pesticides and pests.

Dated: June 27, 2014.
Daniel J. Rosenblatt,
Acting Director, Registration Division, Office of Pesticide Programs.

[FR Doc. 2014-17130 Filed 7-18-14; 8:45 am]

BILLING CODE 6560-50-P